DEPARTMENT OF THE INTERIOR

Fish and Wildlife Service

Endangered and Threatened Species Permit Applications

AGENCY: Fish and Wildlife Service, Interior.

ACTION: Notice of receipt of applications.

SUMMARY: The following applicants have applied for scientific research permits to conduct certain activities with endangered species pursuant to section 10(a)(1)(A) of the Endangered Species Act of 1973, as amended.

DATES: To ensure consideration, written comments must be received on or before August 29, 2007.

ADDRESSES: Written comments should be submitted to the Chief, Endangered Species Division, Ecological Services, P.O. Box 1306, Room 4102, Albuquerque, New Mexico 87103. Documents and other information submitted with these applications are available for review, subject to the requirements of the Privacy Act and Freedom of Information Act. Documents will be available for public inspection, by appointment only, during normal business hours at the U.S. Fish and Wildlife Service, 500 Gold Ave., SW., Room 4102, Albuquerque, New Mexico. Please refer to the respective permit number for each application when submitting comments.

FOR FURTHER INFORMATION CONTACT: Chief, Endangered Species Division, P.O. Box 1306, Room 4102, Albuquerque, New Mexico 87103, (505) 248-6920.

SUPPLEMENTARY INFORMATION:

Public Availability of Comments

Before including your address, phone number, e-mail address, or other personal identifying information in your comment, you should be aware that your entire comment—including your personal identifying information—may be made publicly available at any time. While you can ask us in your comment to withhold your personal identifying information from public review, we cannot guarantee that we will be able to do so.

Permit TE-153351

Applicant: James Kennedy, Denton, Texas.

Applicant requests a permit for research and recovery purposes to survey for American burying beetle (Nicrophorus americanus) at Camp Maxey, a Texas National Guard training site on 6,424 acres in Lamar County, Texas.

Permit TE-155371

Applicant: MACTEC, Tulsa, Oklahoma.

Applicant requests a permit for research and recovery purposes to survey for, trap and relocate, and bait away the American burying beetle (Nicrophorus americanus) in Oklahoma, Arkansas, Kansas, and Missouri. The purpose of the survey activities will be to determine whether or not the American burying beetle continues to occupy specific locations within their historic range.

Permit TE-155413

Applicant: Murray Itzkowitz, Bethlehem, Pennsylvania.

Applicant requests a new permit for research and recovery purposes to conduct presence/absence surveys for the endangered Pecos gambusia (Gambusia nobilis) and Leon Springs pupfish (Cyprinodon bovinus) in Texas.

Permit TE-150490

Applicant: Tetra Tech, Portland, Oregon.

Applicant requests a new permit to conduct presence/absence surveys for the black capped-vireo (Vireo atricapilla) for research and recovery purposes in central and west central Texas.

Permit TE-826118

Applicant: Corps of Engineers/Tulsa District, Tulsa, Oklahoma.

Applicant requests an amendment to their permit, for research and recovery purposes, to add authorization to survey for scaleshell (Leptodea leptodon) within the jurisdiction of the Corps of Engineers, Tulsa District in Kansas, Oklahoma, and Texas.

Permit TE-155371

Applicant: Coronado National Forest, Tucson, Arizona.

Applicant requests an amendment to their permit, for research and recovery purposes, to add authorization to survey for Gila chub (Gila intermedia) within the Coronado National Forest, Arizona and New Mexico.

Authority: 16 U.S.C. 1531 et seq.

Dated: June 7, 2007.
Christopher T. Jones,
Regional Director, Region 2, Albuquerque, New Mexico.

[FR Doc. E7-14644 Filed7-27-07; 8:45 am]

BILLING CODE 4310-55-P